DEPARTMENT OF STATE

[Public Notice: 5179]

60-Day Notice of Proposed Information Collection: Form DS-64, Statement Regarding a Lost or Stolen Passport, OMB No. 1405-0014

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Statement Regarding a Lost or Stolen Passport.

• OMB Control Number: 1405-0014.

• Type of Request: Revision of a Currently Approved Collection.

• Originating Office: CA/PPT/FO/FC.

• Form Number: DS-64.

• Respondents: Individuals or Households.

• Estimated Number of Respondents: 105,000.

• Estimated Number of Responses: 105,000.

• Average Hours per Response: 1/12 hour. (five minutes).

• Total Estimated Burden: 8,800.

• Frequency: On occasion.

• Obligation To Respond: Voluntary.

DATES: The Department will accept comments from the public up to 60 days from September 6, 2005.

ADDRESSES: You may submit comments by any of the following methods:

• E-mail: Cowlishawsc@state.gov. You must include the DS form number (if applicable), information collection title, and OMB control number in the subject line of your message.

• Mail (paper, disk, or CD-ROM submissions): Susan Cowlishaw, 2100 Pennsylvania Ave., NW., 3rd Floor, Washington, DC 20037.

FOR FURTHER INFORMATION CONTACT: Direct requests for additional information regarding the collection listed in this notice, including requests for copies of the proposed information collection and supporting documents, to Susan Cowlishaw, 2100 Pennsylvania Ave., NW., 3rd Floor, Washington, DC 20037, who may be reached on (202) 261-8957, or at Cowlishawsc@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The form is used prior to passport issuance and solicits information relating to the loss of a valid U.S. passport. The information is used by the United States Department of State to ensure that no person shall bear more than one valid or potentially valid U.S. passport at any one time, except as authorized by the Department, and is also used to combat passport fraud and misuse.

Methodology

This form is used in conjunction with the Form DS-11 Application for a U.S. passport or submitted separately to report loss or theft of a U.S. passport. Passport Services collects the information when a U.S. citizen or non-citizen national applies for a new U.S. passport and has been issued a previous, still valid U.S. passport that has been lost or stolen, or when a passport holder independently reports it lost or stolen. Passport applicants can either download the form from the internet or pick one up at any Passport Agency or Acceptance Facility.

Dated: August 18, 2005.
Ann Barrett,
Acting Deputy Assistant Secretary for Passport Services, Bureau of Consular Affairs, Department of State.

[FR Doc. 05-17636 Filed 9-2-05; 8:45 am]

BILLING CODE 4710-06-P